Executive Order 14301 of May 23, 2025

Reforming Nuclear Reactor Testing at the Department of Energy

By the authority vested in me as President by the Constitution and the laws of the United States of America, it is hereby ordered:

Section 1. Purpose. The United States led the development of civilian nuclear power through the Atomic Energy Commission, the National Reactor Testing Station (now known as Idaho National Laboratory), and several other Federal Government entities. This work produced safe and abundant energy. But in the decades since, commercial deployment of new nuclear technologies has all but stopped. The Idaho National Laboratory has principal responsibility for constructing and testing new reactor designs; it concluded construction of new reactors in the 1970s. Our proud history of innovation has succumbed to overregulated complacency.

As I stated in Executive Order 14156 of January 20, 2025 (Declaring a National Energy Emergency), the United States needs a reliable, diversified, and affordable supply of energy to drive development of advanced technologies, manufacturing, transportation, agriculture, and defense industries, and to sustain modern life and national security. Nuclear energy both is vital to this effort and has never held so much promise. Decades of research and engineering have produced prototypes of advanced nuclear technologies that incorporate passive safety mechanisms, improve the physical architecture of reactor designs, increase reactor operational flexibility and performance, and reduce risk in fuel disposal. Advanced reactors—including microreactors, small modular reactors, and Generation IV and Generation III+ reactors—have revolutionary potential. They will open a range of new applications to support data centers, microchip manufacturing, petrochemical production, healthcare, desalination, hydrogen production, and other industries.

The United States cultivated the effort to design and build the first Generation IV reactor for commercial use, but the Federal Government has effectively throttled the domestic deployment of advanced reactors, ceding the initiative to foreign nations in building this critical technology. That changes today. It is the policy of my Administration to foster nuclear innovation and bring advanced nuclear technologies into domestic production as soon as possible.

Sec. 2. Definitions. For purposes of this order:

(a) The term “advanced reactor” has the same meaning as the term “advanced nuclear reactor” in 42 U.S.C. 16271(b)(1).

(b) The term “Department” means the Department of Energy.

(c) The term “qualified test reactor” means an advanced reactor that satisfies thresholds established by the Department sufficient to demonstrate that, from the perspective of technical development and financial backing, the reactor may feasibly be operational within 2 years from the date a substantially complete application is submitted.

(d) The term “Secretary” means the Secretary of Energy.

Sec. 3. Findings. With some rare and arguable exceptions, no advanced reactors have yet been deployed in America. I find that design, construction, operation, and disposition of such reactors under the auspices of the Department—and not to produce commercial electric power—would be for research purposes, rather than “for the purpose of demonstrating the suitability for commercial application of . . . a reactor” within the meaning of 42 U.S.C. 5842. The purpose of testing these reactors at this stage in America's industrial evolution is to establish fundamental technological viability. Thus, at least for the foreseeable future, advanced reactors over which the Department exercises sufficient control and that do not produce commercial electric power, including those “under contract with and for the account of the [Department],” 42 U.S.C. 2140(a)(2), fall within the jurisdiction of the Department, which has authority to foster research and development in nuclear reactors. Nothing in this section alters the authority or jurisdiction of the Department of Defense.

Sec. 4. Reforming the National Laboratory Process for Reactor Testing. (a) Within 60 days of the date of this order, the Secretary shall issue guidance regarding what counts as a qualified test reactor for purposes of this order.

(b) Within 90 days of the date of this order, the Secretary shall take appropriate action to revise the regulations, guidance, and procedures and practices of the Department, the National Laboratories, and any other entity under the Department's jurisdiction to significantly expedite the review, approval, and deployment of advanced reactors under the Department's jurisdiction. The Secretary shall ensure that the Department's expedited procedures enable qualified test reactors to be safely operational at Department-owned or Department-controlled facilities within 2 years following the submission of a substantially complete application.

(c) Upon finding that an applicant has submitted a substantially complete application for a qualified test reactor, the Secretary shall establish a team consisting of representatives from the Secretary's office, the relevant National Laboratory or Laboratories, the Department's Office of General Counsel, and any other entities within the Department that possess the authority to deconflict, oppose, or approve the application. The team shall provide assistance to the applicant to ensure expeditious processing of its application. For these purposes, each member shall report directly to the Secretary.

(d) The Secretary shall prioritize qualified test reactor projects for processing, as consistent with applicable law.

Sec. 5. Establishing a Pilot Program Outside the National Laboratories. (a) The Secretary shall create a pilot program for reactor construction and operation outside the National Laboratories, pursuant to the Atomic Energy Act's authorization of reactors under the Department's sufficient control, including reactors “under contract with and for the account of” the Department, in accordance with 42 U.S.C. 2140. The Secretary shall approve at least three reactors pursuant to this pilot program with the goal of achieving criticality in each of the three reactors by July 4, 2026.

(b) Upon approval of an application for this pilot program, the Secretary shall assign a team to provide assistance to the applicant as specified in subsection 4(c) of this order.

Sec. 6. Streamlining Environmental Reviews. (a) The Secretary shall, in consultation with the Chair of the Council on Environmental Quality, take action to reform the Department's rules governing compliance with the National Environmental Policy Act (NEPA) no later than June 30, 2025, consistent with the policies articulated in sections 2 and 5 of Executive Order 14154 of January 20, 2025 (Unleashing American Energy), and with applicable law.

(b) The Secretary shall, consistent with applicable law, use all available authorities to eliminate or expedite the Department's environmental reviews for authorizations, permits, approvals, leases, and any other activity requested by an applicant or potential applicant. In addition to the measures outlined in section 7 of the Executive Order of May 23, 2025 (Deploying Advanced Nuclear Reactor Technologies for National Security), such measures shall include determining which Department functions are not subject to NEPA, creating categorical exclusions as appropriate for reactors within certain parameters (or relying on existing categorical exclusions), relying on supplemental analyses where reactors will be located on existing sites, or utilizing alternative procedures under NEPA.

Sec. 7. Implementation. The Secretary shall work with the DOGE Team Lead at the Department, as defined in Executive Order 14158 of January 20, 2025 (Establishing and Implementing the President's “Department of Government Efficiency”), with the Director of the Office of Management and Budget, and with the Director of the Office of Science and Technology Policy to implement this order.

Sec. 8. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The Department of Energy shall provide funding for publication of this order in the Federal Register.

THE WHITE HOUSE,

May 23, 2025.

[FR Doc. 2025-09799

Filed 5-28-25; 8:45 am]

Billing code 6450-01-P